DEPARTMENT OF THE INTERIOR

National Park Service

Denali Park Road Vehicle Management Plan Environmental Impact Statement

AGENCY: National Park Service, Interior.

ACTION: Notice of Intent to Prepare an Environmental Impact Statement.

SUMMARY: The National Park Service (NPS) intends to prepare an Environmental Impact Statement (EIS) to develop and implement a plan to manage vehicles along the Denali park road, including carrying capacity (the maximum number of vehicles that can be accommodated on the Denali park road May-September). The goal of the plan is to provide a high quality experience for visitors while protecting wilderness resource values, scenic values, wildlife and other park resources, and maintaining the unique character of the park road. The plan will comprehensively evaluate the existing visitor transportation system to determine its effectiveness in protecting park resources and providing for visitor access and enjoyment. Demand for bus seats exceeds capacity in some cases and trends indicate that visitation will continue to increase. There is also a need to accommodate the changing demographics, interests, and needs of visitors.

The EIS will evaluate a no action alternative of maintaining the existing vehicle management system on the Denali park road including current bus schedules, vehicle allocation, and carrying capacity. The effectiveness of the existing transportation system will be assessed and used to guide development of a range of action alternatives.

Action alternatives will consider potential changes to transportation system components including carrying capacity, and allocation of vehicle use among shuttle buses, tours, inholders, professional photographers, and administrative vehicles. It will also consider changes to bus scheduling and spacing; the size and type of buses; tour services; educational opportunities and interpretive services; wildlife viewing opportunities; and possibly other factors. Alternatives may also consider operational improvements such as the quality of the buses, space for backpacks and bicycles, communications, accessibility and interpretive services (both on the buses or prior to departure). The NPS may consider utilizing an adaptive management approach based on a Before-After-Control-Impact (BACI) experimental design to implement any proposed changes. This BACI approach would increase the ability to detect and correct any future negative impacts on visitor experience or park resources and values caused by management actions.

The NPS will consider a wide range of information including data collected from the 1930's to the present. Intensive studies conducted over the last three years on wildlife populations and behavior, social science studies on visitor experience, and extensive modeling of traffic patterns on the park road will be considered in the development and analysis of alternatives.

This EIS is being prepared in accordance with the requirements of the National Environmental Policy Act of 1969, as amended (42 U.S.C. 4331 et seq.), and its implementing regulations at 40 CFR part 1500.

Scoping: The planning team requests input from interested federal and state agencies, local governments, groups, organizations, park visitors, and the public. Written and verbal scoping comments are being solicited. Further information on this planning process will be available through public scoping meetings, press releases, and the park Web site. Public scoping meetings will be held in Anchorage, Denali Park, Susitna Valley, and Fairbanks, Alaska in 2008. Additional locations may be added as appropriate. Specific dates, times, and locations of scoping meetings will be announced in local media and posted on the NPS Planning, Environment, and Public Comment (PEPC) Web site at http://parkplanning.nps.gov/DENA.

Before including your address, phone number, e-mail address, or other personal identifying information in your comment, you should be aware that your entire comment—including your personal identifying information—may be made publicly available at any time. While you can ask us in your comment to withhold your personal identifying information from public review, we cannot guarantee that we will be able to do so.

DATES: Comments concerning the scope of this project should be received on or before September 30, 2008. The draft EIS is projected to be available in early 2010.

ADDRESSES: Written comments may be mailed to the address below. Electronic comments may be submitted to the NPS Planning, Environment, and Public Comment (PEPC) Web site: http://parkplanning.nps.gov/DENA. To comment using PEPC, select the “Denali Park Road Vehicle Management Plan”, then select “Open for Public Comment”.

FOR FURTHER INFORMATION CONTACT: Adrienne Lindholm, Outdoor Recreation Planner, Denali Planning, 240 West 5th Avenue, Anchorage, AK 99501, (907) 644-3613.

SUPPLEMENTARY INFORMATION: Denali National Park contains one of the most intact predator-prey ecosystems in the world as well as one of the best opportunities in North America to view wildlife in its natural setting. Denali National Park was established in 1917 as a game refuge and conserving wildlife and protecting opportunities to view wildlife remain its most important values. Key resources and values include: Wildlife populations, wildlife habitat, and the processes and components of the park's natural ecosystem; wilderness character, wilderness resource values, and wilderness recreational opportunities; scenic and geologic values of Mount McKinley and surrounding mountain landscape; and visitor enjoyment and inspiration from observing wildlife in its natural habitat and other natural features. Denali is now one of the most visited subarctic national parks in the world, with the vast majority of visitation focused along the 90-mile park road. Park managers must ensure that Denali's vehicle management plan protects these critical resource values.

Before 1972, Denali visitation was low because travelers arrived either by train or by an arduous overland route on the unimproved Denali Highway. In 1972 park visitation increased 100% in direct response to the opening of the George Parks Highway which created a direct corridor from Anchorage to the park. Anticipating this increase, park managers implemented a mandatory visitor transportation system that same year to minimize disturbances to wildlife and scenery. This was one of the first visitor transportation systems in the national park system and it set the standard for transportation systems in other park units.

With the sustained growth in Alaska's tourism industry, Denali continues to be a featured part of travelers' itineraries. To better manage the park experience in light of increased pressures, the 1986 General Management Plan (GMP) for the park established a limit of 10,512 motor vehicle trips annually on the park road. This limit, which affects the existing allocation of vehicle trips (among tour buses, shuttle buses, private vehicles, administrative vehicles, and private inholders and their guests) will be comprehensively evaluated in this EIS. The transportation system enabled Denali to maintain vehicle use levels below this figure while providing visitors the opportunity to travel the park road. However, visitation continues to increase and demand exceeds capacity in some cases. Trends indicate that visitation will continue to increase and that there will continue to be a demand for access to Denali. There is also a need to accommodate the changing demographics, interests, and needs of visitors. This will require a comprehensive review of the current system and evaluation of alternatives for developing a system to better serve the needs of visitors while protecting park resources.

Dated: June 20, 2008.
Victor Knox,
Acting Regional Director, Alaska.

[FR Doc. E8-18571 Filed 8-11-08; 8:45 am]

BILLING CODE 4310-PF-P